DEPARTMENT OF TRANSPORTATION

Federal Aviation Administration

Aviation Rulemaking Advisory Committee—New Task

AGENCY: Federal Aviation Administration (FAA), DOT.

ACTION: Notice of new task assignment for the Aviation Rulemaking Advisory Committee (ARAC).

SUMMARY: The FAA assigned the Aviation Rulemaking Advisory Committee (ARAC) a new task to develop a comprehensive program of voluntary accreditation for commercial air tour operators that are not required under parts 91 and 135 of Title 14 of the Code of Federal Regulations (14 CFR) to maintain their aircraft under a continuous airworthiness maintenance program (CAMP). This task addresses, in part, the ARAC recommendation developed by the Commercial Air Tours Maintenance (CATM) Working Group, which the FAA accepted on February 1, 2011. This notice informs the public of a new ARAC activity and solicits membership for the new Commercial Air Tour Voluntary Accreditation Program Working Group.

FOR FURTHER INFORMATION CONTACT: Katherine Haley, Office of Rulemaking, Federal Aviation Administration, 800 Independence Avenue SW., Washington, DC 20591; telephone: (202) 493-5708, facsimile: (202) 267-5075; email: Katherine.L.Haley@faa.gov.

SUPPLEMENTARY INFORMATION:

Background

The FAA established ARAC to provide advice and recommendations to the FAA Administrator on the FAA's rulemaking activities. ARAC's objectives are to improve the development of the FAA's regulations by providing information, advice, and recommendations related to aviation issues.

On July 15, 2009, the FAA tasked ARAC (74 FR 34390) to provide advice and recommendations on a maintenance quality assurance system, a maintenance training program and a required inspection program for operators and air carriers that conduct air tours and who operate under parts 91 and 135 (aircraft type certificated for a passenger seating configuration, excluding any pilot seat, of 9 or fewer seats). That tasking was in response to two recommendations from the National Transportation Safety Board (NTSB) (A-08-32 and A-08-33) and an FAA recommendation on air tour accidents. The CATM Working Group formed and met between November 2009 and December 2010 to address the ARAC tasking. On December 16, 2010, the CATM working group presented the findings and recommendations to the ARAC Executive Committee. One of the recommendations was to develop an Advisory Circular (AC) to create a voluntary accreditation program modeled after the AC 00-56A, Voluntary Industry Distributor Accreditation Program. The FAA accepted the recommendations on February 1, 2011.

This tasking is the FAA's response to one of the CATM recommendations. The FAA is tasking ARAC to make recommendations on a program for voluntary accreditation in the form of an AC. The objective of the accreditation program is to raise the level of safety of commercial air tour operators not required by regulation to maintain their aircraft under a continuous airworthiness maintenance program.

In December 2011, the ARAC Executive Committee met and discussed the solicited ideas and proposed actions for the tasking. This notice advises the public that the FAA has assigned, and the Executive Committee has accepted, a task to develop a recommendation report on a voluntary accreditation program in the form of an AC.

The Task

The FAA has tasked the ARAC working group to provide advice and recommendations on a program for voluntary accreditation in the form of an AC. The objective of the accreditation program is to raise the level of safety of commercial air tour operators not required by regulation to maintain their aircraft under a CAMP.

The working group is expected to develop a report containing recommendations on the tasking elements listed below. This report should document both majority and minority positions on the findings and the rationale for each position. Any disagreements should be documented, including the rationale for each position and the reasons for the disagreement. In developing its recommendations, the working group shall:

1. Familiarize itself with AC 00-56A to use as a model for developing the subject AC.

2. Establish quality system elements for a maintenance accreditation program.

3. Determine acceptable quality system standards.

4. Establish accreditation organization responsibilities.

5. Establish audit procedures.

6. Establish accreditation procedures.

7. Draft an advisory circular that addresses the elements of 1-6 above.

Schedule: The recommendations must be forwarded to the ARAC Executive Committee for review and approval no later than December 2012.

ARAC Acceptance of Task

The ARAC Executive Committee has accepted the task and assigned it to the Commercial Air Tour Voluntary Accreditation Program Working Group. The working group serves as staff to ARAC and assists in the analysis of the assigned task. ARAC must review and approve the working group's recommendations. If ARAC accepts the working group's recommendations, it will send them to the FAA.

Working Group Activity

The Commercial Air Tour Voluntary Accreditation Program Working Group must comply with the procedures adopted by ARAC. As part of the procedures, the working group must:

1. Recommend a work plan for completion of the task, including the rationale supporting such a plan, for consideration at the next ARAC Executive Committee meeting held following publication of this notice.

2. Provide a status report at each meeting of the ARAC Executive Committee.

3. Draft the recommendation report and required analyses and/or any other related materials or documents.

4. Present the final recommendations to the ARAC Executive Committee for review and approval.

Participation in the Working Group

The Commercial Air Tour Voluntary Accreditation Program Working Group will be comprised of air tour industry organizations and technical experts having an interest in the assigned task. A working group member need not be a representative or a member of the committee. The FAA would like a wide range of members to ensure all aspects of rulemaking are considered in development of the recommendations.

If you wish to become a member of the Commercial Air Tour Voluntary Accreditation Program Working Group, write the person listed under the caption FOR FURTHER INFORMATION CONTACT expressing that desire. Describe your interest in the task and state the expertise you would bring to the working group. We must receive all requests by January 26, 2012. The ARAC Executive Committee and the FAA will review the requests and advise you whether or not your request is approved.

If you are chosen for membership on the working group, you must actively participate in the working group by attending all meetings, and providing written comments when requested to do so. You must devote the resources necessary to support the working group in meeting any assigned deadlines. You must keep your management chain and those you may represent advised of working group activities and decisions to ensure the proposed technical solutions do not conflict with your sponsoring organization's position when the subject is presented to ARAC for approval. Once the working group has begun deliberations, members will not be added or substituted without the approval of the FAA and the working group chair.

The Secretary of Transportation determined the formation and use of ARAC is necessary and in the public interest in connection with the performance of duties imposed on the FAA by law.

ARAC meetings are open to the public. However, ARAC Commercial Air Tour Voluntary Accreditation Program Working Group meetings are not open to the public, except to the extent individuals with an interest and expertise are selected to participate. The FAA will make no public announcement of working group meetings.

Issued in Washington, DC, on December 19, 2011.
Pamela Hamilton-Powell,
Executive Director, Aviation Rulemaking Advisory Committee.

[FR Doc. 2011-33097 Filed 12-23-11; 8:45 am]

BILLING CODE 4910-13-P